DEPARTMENT OF COMMERCE

National Oceanic and Atmospheric Administration

50 CFR Part 622

[Docket No.100812345-2142-03; RTID 0648-XS018]

Snapper-Grouper Fishery of the South Atlantic; 2019 Recreational Accountability Measure and Closure for the South Atlantic Deep-Water Complex

AGENCY: National Marine Fisheries Service (NMFS), National Oceanic and Atmospheric Administration (NOAA), Commerce.

ACTION: Temporary rule; closure.

SUMMARY: NMFS implements an accountability measure (AM) for the recreational sector for the snapper-grouper deep-water complex (yellowedge grouper, silk snapper, misty grouper, queen snapper, sand tilefish, and blackfin snapper) in the South Atlantic for the 2019 fishing year through this temporary rule. NMFS has determined that recreational landings of the deep-water complex have exceeded the recreational annual catch limit (ACL). Therefore, NMFS closes the recreational sector for this complex on December 11, 2019, through the remainder of the 2019 fishing year in the exclusive economic zone (EEZ) of the South Atlantic. This closure is necessary to protect the species in the deep-water complex.

DATES: This rule is effective 12:01 a.m., local time, December 11, 2019, until 12:01 a.m., local time, January 1, 2020.

FOR FURTHER INFORMATION, CONTACT: Frank Helies, NMFS Southeast Regional Office, telephone: 727-824-5305, email: frank.helies@noaa.gov.

SUPPLEMENTARY INFORMATION: The snapper-grouper fishery of the South Atlantic includes the deep-water complex, which includes yellowedge grouper, silk snapper, misty grouper, queen snapper, sand tilefish, and blackfin snapper, and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The recreational ACL for the deep-water complex is 38,628 lb (17,521 kg), round weight. Under 50 CFR 622.193(h)(2)(i), NMFS is required to close the recreational sector for the deep-water complex when the recreational ACL has been reached, or is projected to be reached, by filing a notification to that effect with the Office of the Federal Register, unless NMFS determines that no closure is necessary based on the best scientific information available. NMFS has determined that the recreational sector has exceeded the ACL for this complex. Therefore, this temporary rule implements an AM to close the recreational sector for the deep-water complex in the South Atlantic EEZ, effective 12:01 a.m., local time, December 11, 2019, until January 1, 2020, the start of the next fishing year.

During the recreational closure, the bag and possession limits for the fish in the deep-water complex in or from the South Atlantic EEZ are zero. Therefore, as of 12:01 a.m. on December 11, 2019, no recreational harvest of fish in the deep-water complex from the South Atlantic EEZ is allowed for the remainder of the 2019 fishing year.

Classification

The Regional Administrator, Southeast Region, NMFS, has determined this temporary rule is necessary for the conservation and management of the deep-water complex, a component of the South Atlantic snapper-grouper fishery, and is consistent with the Magnuson-Stevens Act and other applicable laws.

This action is taken under 50 CFR 622.193(h)(2)(i) and is exempt from review under Executive Order 12866.

These measures are exempt from the procedures of the Regulatory Flexibility Act because the temporary rule is issued without opportunity for prior notice and public comment.

This action responds to the best scientific information available. The Assistant Administrator for NOAA Fisheries (AA) finds that the need to immediately implement this action to close the recreational sector for the deep-water complex constitutes good cause to waive the requirements to provide prior notice and opportunity for public comment pursuant to the authority set forth in 5 U.S.C. 553(b)(B), as such procedures are unnecessary and contrary to the public interest. Such procedures are unnecessary because the rule implementing the AM itself has been subject to notice and comment, and all that remains is to notify the public of the closure. Such procedures are contrary to the public interest because of the need to immediately implement this action to protect the deep-water complex. Prior notice and opportunity for public comment would require time and would potentially allow the recreational sector to further exceed its ACL.

For the aforementioned reasons, the AA also finds good cause to waive the 30-day delay in the effectiveness of this action under 5 U.S.C. 553(d)(3).

Authority: 16 U.S.C. 1801 et seq.

Dated: December 5, 2019.
Jennifer M. Wallace,
Acting Director, Office of Sustainable Fisheries, National Marine Fisheries Service.

[FR Doc. 2019-26640 Filed 12-6-19; 4:15 pm]

BILLING CODE 3510-22-P